NUCLEAR REGULATORY COMMISSION

[Docket Nos. 50-369 and 50-370]

McGuire Nuclear Station, Units 1 and 2; Notice of Issuance of Amendments to Facility Operating Licenses; Correction

AGENCY: Nuclear Regulatory Commission.

ACTION: Notice of issuance; correction.

SUMMARY: This document corrects a notice appearing in the Federal Register on April 12, 2005 (70 FR 19110), that corrects Amendment Nos. 227 and 207 for Duke Energy Corporation, Docket Nos. 50-369 and 50-370, McGuire Nuclear Station, Units 1 and 2.

FOR FURTHER INFORMATION CONTACT: James J. Shea, Office of Nuclear Reactor Regulation, U.S. Nuclear Regulatory Commission, Washington, DC 20555-0001; telephone (301) 415-1388, e-mail: jjs@nrc.gov.

SUPPLEMENTARY INFORMATION: On page 19118, in the third column, Amendment Nos.: 227 and 207, should have read Amendment Nos.: 225 and 207.

Dated in Rockville, Maryland, this 15th day of April 2005.
For the Nuclear Regulatory Commission.
Ledyard B. Marsh,
Director, Division of Licensing Project Management, Office of Nuclear Reactor Regulation.

[FR Doc. E5-1904 Filed 4-21-05; 8:45 am]

BILLING CODE 7590-01-P